NUCLEAR REGULATORY COMMISSION

[Docket No. 50-395]

South Carolina Electric & Gas Company, Virgil C. Summer Nuclear Station, Unit 1; Notice of Issuance of Renewed Facility Operating License No. NPF-12 for an Additional 20-Year Period

Notice is hereby given that the U.S. Nuclear Regulatory Commission (the Commission) has issued Renewed Facility Operating License No. NPF-12 to South Carolina Electric & Gas Company (the licensee), the operator of Virgil C. Summer Nuclear Station, Unit No. 1 (V. C. Summer, Unit No. 1). Renewed Facility Operating License No. NPF-12 authorizes operation of Virgil C. Summer, Unit No. 1, by the licensee at reactor core power levels not in excess of 2900 megawatts thermal in accordance with the provisions of the Virgil C. Summer renewed license and its Technical Specifications.

The Virgil C. Summer Nuclear Station, Unit No. 1 is a Westinghouse pressurized water nuclear reactor located in Fairfield County, South Carolina.

The application for the renewed license complies with the standards and requirements of the Atomic Energy Act of 1954, as amended (the Act), and the Commission's regulations. As required by the Act and the Commission's regulations in 10 CFR Chapter 1, the Commission has made appropriate findings, which are set forth in the license. Prior public notice of the action involving the proposed issuance of the renewed license and of an opportunity for a hearing regarding the proposed issuance of the renewed license was published in the Federal Register on October 4, 2002 (67 FR 62272).

For further details with respect to this action, see (1) the South Carolina's Electric & Gas Company's license renewal application for Virgil C. Summer, Unit No. 1 dated August 6, 2002; (2) the Commission's safety evaluation report dated March 2004 (NUREG-1787); (3) the licensee's updated safety analysis report; and (4) the Commission's final environmental impact statement for Virgil C. Summer Nuclear Station (NUREG-1437, Supplement 15, dated February 2004). These documents are available at the NRC's Public Document Room, One White Flint North, 11555 Rockville Pike, first floor, Rockville, Maryland 20852, and can be viewed from the NRC Public Electronic Reading Room at http://www.nrc.gov/reading-rm/adams.html.

Copies of Renewed Facility Operating License No. NPF-12 may be obtained by writing to the U.S. Nuclear Regulatory Commission, Washington, DC 20555-0001, Attention: Director, Division of Regulatory Improvement Programs. Copies of the safety evaluation report (NUREG-1787) and the final environmental impact statement (NUREG-1437, Supplement 15) for Virgil C. Summer may be purchased from the National Technical Information Service, U.S. Department of Commerce, Springfield, Virginia 22161 (http://www.ntis.gov), (703) 605-6000, or Attention: Superintendent of Documents, U.S. Government Printing Office, P.O. Box 371954 Pittsburgh, PA 15250-7954 (http://www.gpoaccess.gov), (202) 512-1800. All orders should clearly identify the NRC publication number and the requestor's Government Printing Office deposit account number or VISA or MasterCard number and expiration date.

Dated at Rockville, Maryland, this the 23rd day of April, 2004.
For the Nuclear Regulatory Commission.
Pao-Tsin Kuo,
Program Director, License Renewal and Environmental Impacts Program, Division of Regulatory Improvement Programs, Office of Nuclear Reactor Regulation.

[FR Doc. 04-9812 Filed 4-29-04; 8:45 am]

BILLING CODE 7590-01-P